RAILROAD RETIREMENT BOARD

Agency Forms Submitted for OMB Review, Request for Comments

In accordance with the Paperwork Reduction Act of 1995 (44 U.S.C. chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Application for Benefits Due but Unpaid at Death; OMB 3220-0055.

Under Section 2(g) of the Railroad Unemployment Insurance Act (45 U.S.C. 352), benefits that accrued but were not paid because of the death of the employee shall be paid to the same individual(s) to whom benefits are payable under Section 6(a)(1) of the Railroad Retirement Act. The provisions relating to the payment of such benefits are prescribed in 20 CFR 325.5 and 20 CFR 335.5.

The RRB provides Form UI-63, Application for Benefits Due But Unpaid at Death, to those applying for the accrued sickness or unemployment benefits unpaid at the death of the employee and for obtaining the information needed to identify the proper payee. One response is requested of each respondent. Completion is required to obtain a benefit.

Previous Requests for Comments: The RRB has already published the initial 60-day notice (90 FR 15373 on April 10, 2025) required by 44 U.S.C. 3506(c)(2). That request elicited no comments.

Information Collection Request (ICR)

Title: Application for Benefits Due but Unpaid at Death.

OMB Control Number: 3220-0055.

Form(s) submitted: UI-63.

Type of request: Reinstatement with change of a previously approved collection.

Affected public: Individuals or Households.

Abstract: The collection obtains the information needed by the Railroad Retirement Board to pay benefits accrued under section 2(g) of the Railroad Unemployment Insurance Act but not paid because of the death of the employee.

Changes proposed: The RRB proposes the following changes to Form UI-63:

• On the cover letter, removed “his or her” and replaced with “their” in second sentence and

• On the second page, field 4, added “Telephone No.” column.

The burden estimate for the ICR is as follows:

Form No. | Annual responses | Time (minutes) | Burden (hours)
UI-63 | 30 | 7 | 4

2. Title and purpose of information collection: Employee's Certification; OMB 3220-0140.

Section 2 of the Railroad Retirement Act (RRA) (45 U.S.C. 231a), provides for the payment of an annuity to the spouse or divorced spouse of a retired railroad employee. For the spouse or divorced spouse to qualify for an annuity, the RRB must determine if any of the employee's current marriage to the applicant is valid.

The requirements for obtaining documentary evidence to determine valid marital relationships are prescribed in 20 CFR 219.30 through 219.35. Section 2(e) of the RRA requires that an employee must relinquish all rights to any railroad employer service before a spouse annuity can be paid.

The RRB uses Form G-346, Employee's Certification, to obtain the information needed to determine whether the employee's current marriage is valid. Form G-346 is completed by the retired employee who is the husband or wife of the applicant for a spouse annuity. Completion is required to obtain a benefit. One response is requested of each respondent. The RRB proposes no changes to Form G-346 or Form G-346sum.

Consistent with 20 CFR 217.17, the RRB uses Form G-346sum, Employee's Certification Summary, which mirrors the information collected on Form G-346, when an employee, after being interviewed by an RRB field office representative “signs” the form using an alternative signature method known as “attestation.” Attestation refers to the action taken by the RRB field office representative to confirm and annotate the RRB's records of the applicant's affirmation under penalty of perjury that the information provided is correct and the applicant's agreement to sign the form by proxy. Completion is required to obtain a benefit. One response is requested of each respondent.

Previous Requests for Comments: The RRB has already published the initial 60-day notice (90 FR 15374 on April 10, 2025) required by 44 U.S.C. 3506(c)(2). That request elicited no comments.

Information Collection Request (ICR)

Title: Employee's Certification.

OMB Control Number: 3220-0140.

Forms submitted: G-346 and G-346sum.

Type of request: Reinstatement with change of a previously approved collection.

Affected public: Individuals or Households.

Abstract: Under Section 2 of the Railroad Retirement Act, spouses of retired railroad employees may be entitled to an annuity. The collection obtains information from the employee about the employee's previous marriages, if any, to determine if any impediment exists to the marriage between the employee and his or her spouse.

Changes proposed: The RRB proposes minor changes to Form G-346 certification statement on page 2 and Paperwork Reduction Act Notice contact information on page 3. The RRB proposes no changes to Form G-346sum.

The burden estimate for the ICR is as follows:

Form No. | Annual responses | Time (minutes) | Burden (hours)
G-346 | 2,060 | 5 | 172
G-346sum | 1,960 | 5 | 163
Total | 4,020 |  | 335

3. Title and purpose of information collection: RUIA Claims Notification and Verification System; OMB 3220-0171.

Section 5(b) of the Railroad Unemployment Insurance Act (RUIA) (45 U.S.C. 355), requires that effective January 1, 1990, when a claim for benefits is filed with the Railroad Retirement Board (RRB), the RRB shall provide notice of the claim to the claimant's base year employer(s) to provide them an opportunity to submit information relevant to the claim before making an initial determination. If the RRB determines to pay benefits to the claimant under the RUIA, the RRB shall notify the base-year employer(s).

The purpose of the RUIA Claims Notification and Verification System is to provide two notices, pre-payment Form ID-4K, Prepayment Notice of Employees' Applications and Claims for Benefits Under the Railroad Unemployment Insurance Act, and post-payment Form ID-4E, Notice of RUIA Claim Determination. Prepayment Form ID-4K provides notice to a claimant's base-year employer(s), of each unemployment application and unemployment and sickness claim filed for benefits under the RUIA and provides the employer an opportunity to convey information relevant to the proper adjudication of the claim.

The railroad employer can elect to receive Form ID-4K by one of three options: a computer-generated paper notice, by Electronic Data Interchange (EDI), or online via the RRB's Employer Reporting System (ERS). The railroad employer can respond to the ID-4K notice by telephone, manually by mailing a completed ID-4K back to the RRB, or electronically via EDI or ERS.

Once the RRB determines to pay a claim post-payment Form Letter ID-4E, Notice of RUIA Claim Determination, is used to notify the base-year employer(s). This gives the employer a second opportunity to challenge the claim for benefits.

The ID-4E mainframe-generated paper notice, EDI, and internet versions are transmitted on a daily basis, generally on the same day that the claims are approved for payment. Railroad employers who are mailed Form ID-4E are instructed to write if they want a reconsideration of the RRB's determination to pay. Employers who receive the ID-4E electronically, may file a reconsideration request by completing the ID-4E by either EDI or ERS. Completion is voluntary.

Previous Requests for Comments: The RRB has already published the initial 60-day notice (90 FR 15374 on April 10, 2025) required by 44 U.S.C. 3506(c)(2). That request elicited no comments.

Information Collection Request (ICR)

Title: RUIA Claims Notification and Verification System.

OMB Control Number: 3220-0171.

Form(s) submitted: ID-4K, ID-4K (INTERNET), ID-4E, ID-4E (INTERNET).

Type of request: Reinstatement without change of a previously approved collection.

Affected public: Private Sector; Businesses or other for-profits.

Abstract: Section 5(b) of the RUIA requires that effective January 1, 1990, when a claim for benefits is filed with the Railroad Retirement Board (RRB), the RRB shall provide notice of such claim to the claimant's base-year employer(s) and afford such employer(s) an opportunity to submit information relevant to the claim before making an initial determination on the claim. When the RRB determines to pay benefits to a claimant under the RUIA, the RRB shall provide notice of such determination to the claimant's base year employer.

Changes proposed: The RRB proposes no changes to Forms ID-4K, ID-4K(internet), ID-4E, and ID-4E (internet).

The burden estimate for the ICR is as follows:

Form No. | Annual responses | Time (minutes) | Burden (hours)
ID-4K (Manual) | 1,250 | 2 | 42
ID-4K (FTP) | 15,600 | (*) | 210
ID-4K (Internet) | 63,000 | 2 | 2,100
ID-4E (Manual) | 50 | 2 | 2
ID-4E (Internet) | 120 | 2 | 4
Total | 80,020 |  | 2,358
* The burden for the railroad employers receiving file transfer protocol (FTP) messages has been calculated in the following manner. We estimate that 10 minutes a day would be required on average for each of the 5 railroad employers to operate the system. Based on 251 workdays in a year, we calculate the number of burden hours to be 210 hours, of which we allocated 40 percent to unemployment transactions (84 burden hours) and 60 percent to sickness transactions (126 burden hours).

Additional Information or Comments: Copies of the forms and supporting documents or comments regarding the information collection should be addressed to Brian Foster, Railroad Retirement Board, 844 North Rush Street, Chicago, Illinois 60611-1275 or emailed to Brian.Foster@rrb.gov.

Written comments and recommendations for the proposed information collection should be sent within 30 days of publication of this notice to www.reginfo.gov/public/do/PRAMain. Find this particular information collection by selecting “Currently under 30-day Review—Open for Public Comments” or by using the search function.

Brian Foster,
Clearance Officer.

[FR Doc. 2025-10782 Filed 6-12-25; 8:45 am]

BILLING CODE 7905-01-P